DEPARTMENT OF THE INTERIOR

Bureau of Land Management

[BLM_OR_FRN_MO4500170988]

Notice of Public Meeting of the Western Oregon Resource Advisory Council

AGENCY: Bureau of Land Management, Interior.

ACTION: Notice of public meeting.

SUMMARY: In accordance with the Federal Land Policy and Management Act and the Federal Advisory Committee Act of 1972, the U.S. Department of the Interior, Bureau of Land Management (BLM) announces that the Western Oregon Resource Advisory Council (RAC) will host a meeting and field tour.

DATES: The Western Oregon RAC will meet virtually and in person on June 22 from 8:30 a.m. to 12:30 p.m. Pacific Time (PT). In addition, a field tour will occur on the same day from 1 p.m. to 4:30 p.m. PT. The field tour and meeting are open to the public.

ADDRESSES: The RAC will meet at the Glide Ranger Station, 18782 N Umpqua Highway, Glide, OR 97443, and will take a field tour of BLM Roseburg District lands along the North Umpqua River, east of Roseburg, Oregon, to see Archie Creek Fire recovery efforts the group will travel to public lands east of Glide, Oregon, then proceed to the Lone Pine and Millpond Recreation Sites.

The June 22 meeting will be held virtually over the Zoom platform. Please contact Megan Harper, Public Affairs Specialist for the Coos Bay District, at (541) 751-4353 or m1harper@blm.gov to receive a link to attend the Zoom meeting.

FOR FURTHER INFORMATION CONTACT: Megan Harper, Public Affairs Specialist, Coos Bay District, 1300 Airport Lane, North Bend, OR 97459; phone: (541) 751-4353; email: m1harper@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Western Oregon RAC advises the Secretary of the Interior, through the BLM, on a variety of public land issues across public lands in Western Oregon, including the Coos Bay, Medford, Northwest Oregon, and Roseburg Districts and part of the Lakeview District. At the June 22 meeting, the RAC will receive information on the Federal Lands Recreation Enhancement Act, hear from the District Managers about current events in Western Oregon, and provide feedback to the BLM on re-development of recreation sites that were damaged in the 2020 western Oregon wildfires.

On the field tour, the RAC will visit public lands east of Roseburg, Oregon, along the North Umpqua River to review completed Secure Rural School Title II projects, post-Archie Creek Fire forest management, and recreation site rehabilitation.

The public is welcome to attend the meeting and the field tour but must provide their own transportation and meals. Individuals who plan to attend must RSVP to the BLM Coos Bay District Office at least 1 week in advance of the field tour to the individual listed in the FOR FURTHER INFORMATION CONTACT section of this notice. Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

The meeting is open to the public, and a public comment period will be held on June 22, 2023, at 12 p.m. Depending on the number of persons wishing to comment and the time available, time allotted for individual oral comments may be limited. The public may submit written comments to the RAC by emailing the RAC coordinator at m1harper@blm.gov.

Before including your address, phone number, email address, or other personal identifying information in your comment, you should be aware that your entire comment—including your personal identifying information—may be made publicly available at any time. While you can ask us in your comment to withhold your personal identifying information from public review, we cannot guarantee that we will be able to do so.

Previous minutes, membership information, and upcoming agendas are available at: https://www.blm.gov/get-involved/resource-advisory-council/near-you/oregon-washington. Detailed minutes for the RAC meetings are also maintained in the Coos Bay District Office and will be available for public inspection and reproduction during regular business hours within 90 days following the meeting.

(Authority: 43 CFR 1784.4-2)

Heather L. Whitman,
Roseburg District Manager, (Designated Federal Officer).

[FR Doc. 2023-12094 Filed 6-6-23; 8:45 am]

BILLING CODE 4331-24-P